DEPARTMENT OF ENERGY

Federal Energy Regulatory Commission

Notice of Availability of the Draft Environmental Impact Statement for the Proposed Bradwood Landing LNG Terminal and Pipeline Project

August 17, 2007.

Bradwood Landing LLC (Docket No. CP06-365-000); NorthernStar Energy LLC (Docket Nos. CP06-366-000, CP06-376-000, and CP06-377-000)

The staff of the Federal Energy Regulatory Commission (FERC or Commission) has prepared this draft Environmental Impact Statement (EIS) for a liquefied natural gas (LNG) import terminal proposed by Bradwood Landing LLC and the associated natural gas sendout pipeline facilities proposed by NorthernStar Energy LLC in the above-referenced dockets. The LNG import terminal would be located at Bradwood, about 38 miles up the Columbia River from its mouth, in Clatsop County, Oregon, and the sendout pipeline would be located in Clatsop and Columbia Counties, Oregon, and Cowlitz County, Washington.

The draft EIS was prepared to satisfy the requirements of the National Environmental Policy Act (NEPA). The U.S. Army Corps of Engineers (COE), U.S. Coast Guard (Coast Guard), and the U.S. Department of Transportation (DOT) are federal cooperating agencies for the development of this EIS. A federal cooperating agency has jurisdiction by law or special expertise with respect to any environmental impact involved with the proposal and is involved in the NEPA analysis.

The COE is responsible for issuing permits under section 10 of the Rivers and Harbor Act and section 404 of the Clean Water Act. The Coast Guard is responsible for the safety and security of port areas and navigable waterways, and would issue a Letter of Recommendation indicating if the Columbia River waterway to the proposed LNG terminal is suitable for LNG marine traffic. The DOT is responsible for enforcing safety regulations and standards for the LNG terminal and the design and operation of the natural gas sendout pipeline.

The FERC is the lead federal agency for compliance with the NEPA, and for authorization of the Project under sections 3 and 7 of the Natural Gas Act. The Commission will use the EIS to consider the environmental impacts that would result if it decides to authorize the Project. The cooperating agencies and the FERC staff conclude that the proposed Project, with the appropriate mitigation measures as recommended, would have limited adverse environmental impact.

The general purpose of the proposed Project is to provide a new source of natural gas to the Pacific Northwest through the importation of LNG. LNG is natural gas that has been cooled to about −260 degrees Fahrenheit, reducing its volume about 600 times from a gas to a liquid, allowing for its transport over long distances across oceans in specially designed ships from its point of origin in foreign countries with abundant natural gas reserves. At the import terminal at Bradwood, the LNG would be off-loaded from the LNG transport ships, stored as a liquid, vaporized back into natural gas, and sent out via the associated pipeline to the existing interstate natural gas pipeline network. The Bradwood Landing LNG import terminal would have a peak sendout capacity of about 1.3 billion cubic feet per day (bcfd) of natural gas.

The draft EIS addresses the potential environmental impacts from the construction and operation of the following facilities proposed by Bradwood Landing LLC:

• A dredged LNG ship maneuvering area off of the Columbia River navigation channel;

• A single ship berth capable of receiving LNG ships with cargo capacities ranging from 100,000 to 200,000 cubic meters (m³);

• A set of four 16-inch-diameter LNG unloading arms, including two liquid unloading arms, one hybrid arm, and a vapor return arm on the jetty, and a 1,240-foot-long, 32-inch-diameter cryogenic LNG transfer pipeline and 6-inch-diameter LNG recirculation pipeline extending from the berth to the LNG storage tanks;

• Two insulated LNG storage tanks, each with a useable volume of over 1 million barrels, or 160,000 m³;

• A vapor management system to handle the boil-off gas (BOG) that occurs during the unloading process, including vapor return blowers and knockout drum on the jetty, vapor handling pipework, two BOG compressors, and a BOG condenser;

• An LNG sendout system, consisting of six submerged in-tank LNG discharge pumps (three in each storage tank) and five sendout pumps;

• Seven submerged combustion vaporizers, of which six would normally operate and one would be a back-up, to re-gasify the LNG and provide natural gas through a metering station to the inlet valve of the sendout pipeline;

• Utilities, including a 1.5-mile-long 115-kilovolt power line and switchyard, and an 800-kilowatt emergency diesel-fueled generator;

• Support buildings, including a warehouse/administrative building, control building, switch rooms, compressor building, and gatehouse/security building; and

• A fire protection and detection system, including a firewater pumphouse, and security system including fencing.

The natural gas pipeline facilities proposed by NorthernStar Energy LLC addressed in the draft EIS include:

• A 36.3-mile-long, underground, high-pressure welded steel sendout pipeline consisting of approximately 18.9 miles of 36-inch-diameter pipeline in Clatsop and Columbia Counties, Oregon and 17.4 miles of 30-inch-diameter pipeline in Columbia County, Oregon and Cowlitz County, Washington;

• Five meter stations, including at the LNG terminal, the Georgia-Pacific Wauna paper mill delivery point, the interconnection with the Northwest Natural Gas Company intrastate pipeline system, the Portland General Electric Company Beaver Power Plant delivery point, and interconnection with Williams Northwest Pipeline Company interstate pipeline system; and

• at least five mainline block valves, two pig ¹ launchers, and two pig receivers.

¹ A “pig” in an internal devise used to dry, clean, and inspect a pipeline.

Comment Procedures

Any person wishing to comment on the draft EIS is encouraged to do so. To ensure consideration prior to the production of a final EIS, it is important that your comments be received before December 24, 2007.

Please note that the Commission strongly encourages electronic filing of any comments. See 18 Code of Federal Regulations (CFR) 385.2001(a)(1)(iii) and the instructions on the FERC's Internet Web site (http://www.ferc.gov) under the eFiling link and the link to the User's Guide. Before you can submit comments, you will need to create a free account by clicking on “Sign-up” under “New User.” You will be asked to select the type of submission you are making. This type of submission is considered a “Comment on Filing.” Comments submitted electronically must be submitted by December 24, 2007.

If you wish to mail comments on the draft EIS, please mail your comments so that they will be received in Washington, DC on or before December 24, 2007. Please carefully follow the instructions below to ensure that your comments are received in time and properly recorded:

• Send an original and two copies of your comments to: Kimberly D. Bose, Secretary, Federal Energy Regulatory Commission, 888 First Street, NE., Room 1A , Washington, DC 20426.

• Reference Docket No. CP06-365-000 et al. on the original and both copies; and

• Label one copy of your comments for the attention of Gas Branch 3, PJ11.3.

After comments on the draft EIS are reviewed, any significant new issues are investigated, and modifications are made to the text, a final EIS will be published and distributed. The final EIS will contain the staff responses to timely comments received on the draft EIS.

Comments will be considered by the Commission and the cooperating agencies but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.² You do not need intervenor status to have your comments considered.

² Interventions may also filed electronically via the Internet in lieu of paper. See the previous discussion on filing comments electronically.

The draft EIS has been placed in the public files of the FERC and is available for public inspection at: Federal Energy Regulatory Commission, Public Reference Room, 888 First Street NE., Room 2A, Washington, DC 20426, (202) 502-8371.

A limited number of copies of the draft EIS are available from the Public Reference Room identified above. In addition, the draft EIS has been mailed to affected landowners; various federal, state, and local government agencies; elected officials; environmental and public interest groups; Indian tribes and Native American organizations with an interest in the project area; local libraries and newspapers; intervenors; and other individuals that expressed an interest in the proposed Project.

Additional information about the proposed Project is available from the Commission's Office of External Affairs, at 1-866-208--FERC or on the FERC Internet Web site (http://www.ferc.gov). To access information via the FERC Web site click on the “eLibrary” link then click on “General Search” and enter the docket number (CP06-365) excluding the last three digits in the Docket Number field. Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E7-16751 Filed 8-23-07; 8:45 am]

BILLING CODE 6717-01-P